NATIONAL SCIENCE FOUNDATION

Advisory Committee for Geosciences; Notice of Meeting

In accordance with the Federal Advisory Committee Act (Pub. L. 92-463, as amended), the National Science Foundation (NSF) announces the following meeting:

NAME AND COMMITTEE CODE: Advisory Committee for Geosciences (1755).

DATE AND TIME: April 14, 2021; 11:00 a.m.-4:30 p.m. EDT; April 15, 2021; 11:00 a.m.-4:30 p.m. EDT.

PLACE: NSF, 2415 Eisenhower Avenue, Alexandria, VA 22314 | Virtual Connection information will be made available on the AC GEO website at least two weeks prior to the meeting: (https://www.nsf.gov/geo/advisory.jsp).

TYPE OF MEETING: Open.

CONTACT PERSON: Melissa Lane, National Science Foundation, Room C 8000, 2415 Eisenhower Avenue, Alexandria, Virginia 22314; Phone 703-292-8500.

MINUTES: May be obtained from the contact person listed above.

PURPOSE OF MEETING: To provide advice, recommendations, and oversight on support for geoscience research and education including atmospheric, geo-space, earth, ocean, and polar sciences.

Agenda

April 14, 2021

• Directorate and NSF activities and plans

• Discussion of the COVID-19 Impacts on the Science Community and NSF Research and Support Mechanisms

• Discussion of Final Draft Report on 21st Century Geosciences

• Update on NASEM Earth System Science Study

• Meeting with the NSF Director and Chief Operating Officer

April 15, 2021

• Report outs from Division Meetings and AC OPP Fall Meeting

• Joint Session with AC BIO

• Report on the AGS Committee of Visitors Meeting

• Update on EAR AC Subcommittee 2020-2021 Geodesy and Seismology Instrumentation Portfolio Review

• Action Items/Planning for Spring 2021 Meeting

Dated: March 3, 2021.
Crystal Robinson,
Committee Management Officer.

[FR Doc. 2021-04709 Filed 3-5-21; 8:45 am]

BILLING CODE 7555-01-P